DEPARTMENT OF HOUSING AND URBAN DEVELOPMENT

[Docket No. FR-4975-N-35]

Notice of Proposed Information Collection: Comment Request; Master Appraisal Reports

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: December 27, 2005.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410 or Wayne_Eddins@hud.gov.

FOR FURTHER INFORMATION CONTACT: Margaret Burns, Director, Office of Single Family Program Development, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Master Appraisal Reports.

OMB Control Number, if applicable: 2502-0493.

Description of the need for the information and proposed use: HUD/FHA collection of this information permits the listing of models that cover the types of individual homes proposed for construction. The collection also sets forth the general and specific conditions, which must be satisfied before HUD/FHA can endorse a firm commitment for home mortgage insurance. Participating lenders working with developers prepare this information collection.

Agency form numbers, if applicable: HUD-91322, HUD-91322.1, HUD-91322.2, and HUD-91322.3.

Estimation of the total number of hours needed to prepare the information collection including number of respondents, frequency of response, and hours of response: The estimated number of respondents is 3,500 generating 14,000 annual responses, frequency of responses is on occasion, the estimated time per response varies from 30 minutes to 45 minutes, and the estimated annual burden hours requested is 7,875.

Status of the proposed information collection: Extension of a currently approved collection.

Authority: The Paperwork Reduction Act of 1995, 44 U.S.C., Chapter 35, as amended.

Dated: October 12, 2005.
Frank L. Davis,
General Deputy Assistant Secretary for Housing, Deputy Federal Housing Commissioner.

[FR Doc. E5-5867 Filed 10-24-05; 8:45 am]

BILLING CODE 4210-27-P